DEPARTMENT OF HOMELAND SECURITY

Federal Emergency Management Agency

44 CFR Part 67

[Docket No. FEMA-B-7769]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before July 2, 2008.

ADDRESSES: The corresponding preliminary Flood Insurance Rate Map (FIRM) for the proposed BFEs for each community are available for inspection at the community's map repository. The respective addresses are listed in the table below.

You may submit comments, identified by Docket No. FEMA-B-7769, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) Depth in feet above ground: Effective | * Elevation in feet (NGVD) + Elevation in feet (NAVD) Depth in feet above ground: Modified | Communities affected
Jersey County, Illinois, and Incorporated Areas
Elsah Creek | At the mouth of the Mississippi River | +439 | +438 | Village of Elsah.
| Approximately 500 feet upstream of Maple Street | +439 | +438
Illinois River | At the mouth of the Mississippi River in Jersey County | +440 | +439 | Unincorporated Areas of Jersey County, City of Grafton.
| Approximately 1500 feet upstream of the Illinois River Road Ferry Crossing | +440 | +439
Mississippi River | Approximately 0.5 miles downstream of the confluence of Piasa Creek | +438 | +437 | Unincorporated Areas of Jersey County, City of Grafton, Village of Elsah.
| At river mile 223.1 at the downstream tip of Iowa Island | +441 | +440
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Grafton
Maps are available for inspection at Grafton City Hall, 118 East Main Street, Grafton, IL 62037.
Unincorporated Areas of Jersey County
Maps are available for inspection at Jersey County Government Building, 200 North Lafayette St., Jerseyville, IL 62052.
Village of Elsah
Maps are available for inspection at 51 North Street, P.O. Box 28, Elsah, IL 62028.
Yancey County, North Carolina, and Incorporated Areas
Bailey Branch | At the confluence with Pine Swamp Branch | None | +2575 | Unincorporated Areas of Yancey County.
| Approximately 1,740 feet upstream of the confluence with Pine Swamp Branch | None | +2637
Bald Mountain Creek | At the confluence with Cane River | +2293 | +2294 | Unincorporated Areas of Yancey County.
| Approximately 1,810 feet upstream of Bee Log Road (State Road 1408) | None | +2467
Big Crabtree Creek | The confluence with South Toe River | None | +2411 | Unincorporated Areas of Yancey County.
| Approximately 1.4 miles upstream of Seven Mile Ridge Road (State Road 1167) | None | +3147
Brown Creek | Approximately 300 feet upstream of the confluence with South Toe River | +2633 | +2634 | Unincorporated Areas of Yancey County.
| Approximately 1.2 miles upstream of Upper Browns Creek Road (State Road 1154) | None | +4690
Cane River | At the confluence with Nolichucky River and North Toe River | None | +2044 | Unincorporated Areas of Yancey County.
| Approximately 60 feet downstream of the confluence of Mitchell Creek | None | +3157
Cattail Creek | At Mountain Farm Road | None | +3012 | Unincorporated Areas of Yancey County.
| At the confluence of North Fork Cattail Creek and South Fork Cattail Creek | None | +3157
Jacks Creek | At the confluence with North Toe River | None | +2136 | Unincorporated Areas of Yancey County.
| Approximately 60 feet upstream of Sheriff Anglin Road (State Road 1364) | None | +2532
Little Crabtree Creek | Approximately 450 feet downstream of Depot Street (State Road 1140) | +2622 | +2623 | Unincorporated Areas of Yancey County, Town of Burnsville.
| Approximately 650 feet upstream of East Boulevard | None | +2740
McIntosh Branch | The confluence with Pine Swamp Branch | None | +2699 | Unincorporated Areas of Yancey County, Town of Burnsville.
| Approximately 50 feet upstream of Van Kirk Lane | None | +2751
Mitchell Branch | At the confluence with Little Crabtree Creek | None | +2705 | Unincorporated Areas of Yancey County, Town of Burnsville.
| Approximately 260 feet upstream of Mitchell Branch (State Road 1373) | None | +2751
Nolichucky River | Approximately 550 feet upstream of the railroad | None | +1981 | Unincorporated Areas of Yancey County.
| At the confluence of Cane River and North Toe River | None | +2044
North Cox Creek | Approximately 220 feet upstream of the confluence with Cane River | +2148 | +2149 | Unincorporated Areas of Yancey County.
| Approximately 1.5 miles upstream of the confluence with Cane River | None | +3061
North Fork Cattail Creek | At the confluence with Cattail Creek and South Fork Cattail Creek | None | +3157 | Unincorporated Areas of Yancey County.
| Approximately 1.1 miles upstream of North Fork Road | None | +4869
North Toe River | At the confluence with Nolichucky River and Cane River | None | +2044 | Unincorporated Areas of Yancey County.
| At the Yancey/Mitchell County boundary | None | +2411
Pine Swamp Branch | At the confluence with Cane River | None | +2553 | Unincorporated Areas of Yancey County, Town of Burnsville.
| Approximately 1,770 feet upstream of Cherry Lane (State Road 1139) | None | +2720
Pine Swamp Branch | Approximately 1,770 feet upstream of Cherry Lane (State Road 1139) | None | #1 | Town of Burnsville.
| Approximately 200 feet upstream of East Main Street | None | #1
South Cox Creek | At the confluence with Jacks Creek | None | +2420 | Unincorporated Areas of Yancey County.
| Approximately 700 feet upstream of Coxes Creek Road (State Road 1354) | None | +2791
South Fork Cattail Creek | At the confluence with Cattail Creek and North Fork Cattail Creek | None | +3157 | Unincorporated Areas of Yancey County.
| Approximately 0.5 mile upstream of Tennis Court Road | None | +3739
South Toe River | At the confluence with North Toe River | None | +2356 | Unincorporated Areas of Yancey County.
| Approximately 1,100 feet downstream of the confluence of Brown Creek | None | +2629
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Burnsville
Maps are available for inspection at Town of Burnsville Courthouse, Mapping Department, 110 Town Square, Burnsville, NC.
Unincorporated Areas of Yancey County
Maps are available for inspection at Yancey County Courthouse, Room 11, Burnsville, NC.
Beadle County, South Dakota, and Incorporated Areas
James River | Just upstream of the Sanborn County and Beadle County line | None | +1237 | Unincorporated Areas of Beadle County, City of Huron.
| Just downstream of the Spink County and Beadle County line | None | +1253
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Huron
Maps are available for inspection at 329 Wisconsin, P.O. Box 1369, Huron, SD 57350.
Unincorporated Areas of Beadle County
Maps are available for inspection at 400 3rd S.W., P.O. Box 25, Huron, SD 57350.

(Catalog of Federal Domestic Assistance No. 97.022, “Flood Insurance.”)

Dated: March 18, 2008.
David I. Maurstad,
Federal Insurance Administrator of the National Flood Insurance Program, Department of Homeland Security, Federal Emergency Management Agency.

[FR Doc. E8-6910 Filed 4-2-08; 8:45 am]

BILLING CODE 9110-12-P